DEPARTMENT OF COMMERCE

International Trade Administration

A-570-941

Certain Kitchen Appliance Shelving and Racks from the People's Republic of China: Postponement of the Preliminary Determination of the Antidumping Duty Investigation

AGENCY: Import Administration, International Trade Administration, Department of Commerce.

EFFECTIVE DATE: December 23, 2008.

FOR FURTHER INFORMATION CONTACT: Julia Hancock, AD/CVD Operations, Office 9, Import Administration, International Trade Administration, U.S. Department of Commerce, 14th Street and Constitution Avenue, NW, Washington DC 20230; telephone: (202) 482-1394.

SUPPLEMENTARY INFORMATION:

Background

On August 27, 2008, the Department of Commerce (“Department”) published the initiation of the antidumping duty investigation of imports of certain kitchen appliance shelving and racks from the People's Republic of China (“PRC”) covering the period January 1, 2008, through June 30, 2008. See Certain Kitchen Appliance Shelving and Racks from the People's Republic of China: Initiation of Antidumping Duty Investigation, 73 FR 50596 (August 27, 2008).

On October 8, 2008, the Department selected two mandatory respondents in the above referenced investigation based on section 777(c)(2)(B) of the Tariff Act of 1930, as amended (“Act”), and determined that it had the resources to fully investigate only the two largest companies, Guandong Wireking Housewares & Hardware Co., Ltd. (“Guandong Wireking”) and Asber Enterprises Co., Ltd. (China) (“Asber”), of the six exporters that filed quantity and value responses. See Memorandum to Stephen J. Claeys, Deputy Assistant Secretary for Import Administration, from Julia C. Hancock, Senior International Trade Analyst, Office 9, Subject: Selection of Respondents for the Antidumping Duty Investigation of Certain Kitchen Appliance Shelving and Racks from the People's Republic of China (October 8, 2008). Additionally, on October 8, 2008, the Department sent its antidumping duty questionnaire to Asber and Guandong Wireking.¹

¹ See Letter to Asber from Catherine Bertrand, Program Manager, AD/CVD Operations, Office 9, Import Administration regarding the Antidumping Duty Investigation of Certain Kitchen Appliance Shelving and Racks from the People's Republic of China: Non-Market Economy Questionnaire, dated October 8, 2008.

On October 23, 2008, one of the two mandatory respondents, Asber, filed a letter stating that it will not participate as a mandatory respondent in this investigation. On October 31, 2008, in light of Asber's refusal to participate, Petitioners² submitted comments requesting that the Department select an additional mandatory respondent. Additionally, on November 7, 2008, and on November 10, 2008, Marmon Retail Services Asia Corporation and New King Shan (Zhu Hai) Co., Ltd. (“New King Shan”) submitted rebuttal comments arguing that the Department must maintain a consistent position with previous additional respondent selection decisions.

² Nashville Wire Products, Inc., SSW Holding Company, Inc., the United Steel, Paper and Forestry, Rubber, Manufacturing, Energy, Allied-Industrial and Service Workers International Union and the International Association of Machinists and Aerospace Workers, District Lodge 6 (Clinton, IA), collectively known as “Petitioners”.

On November 19, 2008, the Department selected an additional mandatory respondent, New King Shan, pursuant to section 777(c) of the Act. See Memorandum to James C. Doyle, Office Director, through Catherine Bertrand, Program Manager, from Blaine Wiltse, Case Analyst, and Julia Hancock, Senior Case Analyst, Subject: Antidumping Duty Investigation: Certain Kitchen Appliance Shelving and Racks from the People's Republic of China (“the PRC”): Selection of an Additional Mandatory Respondent (November 19, 2008).³ Additionally, on November 21, 2008, the Department sent its antidumping duty questionnaire to New King Shan. The preliminary determination of this antidumping duty investigation is currently due on January 7, 2009.

³ Although Petitioners submitted surrebuttal comments regarding the selection of an additional mandatory respondent on November 19, 2008, the Department did not consider these comments because they were submitted after the Department had selected the additional mandatory respondent.

Statutory Time Limits

Pursuant to section 733(c)(1)(B) of the Act, the Department can extend the period for a preliminary determination until not later than 190 days after the date on which the administrative authority initiates an investigation if the Department concludes that the parties concerned are cooperating and determines that:

The case is extraordinarily complicated by the reason of (I) the number and complexity of the transactions to be investigated or adjustments to be considered, (II) the novelty of the issues presented, or (III) the number of firms whose activities must be investigated, and (ii) additional time is necessary to make the preliminary determination.

Extension of Time Limit of Preliminary Determination

The Department finds that all concerned parties, with the exception of Asber, are cooperating in this case, pursuant to section 733(c)(1)(B) of the Act. Additionally, the Department finds that this investigation is extraordinarily complicated, pursuant to section 733(c)(1)(B)(i) of the Act. Specifically, as requested by Petitioners, the Department selected an additional mandatory respondent and the Department requires additional time to gather information from this additional mandatory respondent. Further, the Department requires additional time to gather more information from all mandatory respondents regarding the sales process, affiliations, establishing the proper date of sale, surrogate values for all factors of production, and the methodology used to report factors of production. Moreover, the Department requires additional time to evaluate the separate rate applications. Finally, the Department has not yet received all responses to its initial questionnaire and supplemental questionnaires, and thus requires more time to analyze the responses and issue any additional supplemental questionnaires, as needed.

Therefore, for the reasons identified above, we are postponing the preliminary determination under section 733(c)(1)(B) of the Act by fifty days from January 7, 2009, to February 26, 2009.

This notice is published pursuant to sections 733(c)(2) of the Act and 19 CFR 351.205(f)(1).

Dated: December 3, 2008.
David M. Spooner,
Assistant Secretary for Import Administration.

[FR Doc. E8-30571 Filed 12-22-08; 8:45 am]

BILLING CODE 3510-DS-S